DEPARTMENT OF THE INTERIOR

Bureau of Land Management

[NV-030-1232-PM-NV14; Closure Notice No. NV-030-07-001]

Sand Mountain Recreation Area, NV, Motorized Travel Restrictions

AGENCY: Bureau of Land Management, Interior.

ACTION: Emergency Restriction on Motorized Use on Federal Lands, Churchill County, NV.

SUMMARY: Notice is hereby given that motorized travel is restricted on 3,985 acres on certain public lands located in and adjacent to Sand Mountain Recreation Area, Churchill County, Nevada. These restrictions are necessary because motorized travel is adversely affecting wildlife and BLM finds that in order to prevent further adverse effects to the habitat of the Sand Mountain blue butterfly (Euphilotes pallescens arenamontana) restricting motorized travel is required. These restrictions will remain in effect until such time as the Resource Management Plan has been updated to address the long-term management of the wildlife, cultural, vegetation and recreation resources in the area or until the Field Office Manager determines it is no longer needed. Resource damage has already taken place and the potential for additional adverse effects occurring as a result of unrestricted off-highway vehicle (OHV) use within this area is substantial and significant.

DATES: Effective Date: This restriction goes into effect immediately and will be verified upon publication in the Federal Register. It will remain in effect until the Manager, Carson City Field Office, determines it is no longer needed.

Authority: The authority for these restrictions is 43 CFR 8341.2, 8364.1, and 9268.3.

FOR FURTHER INFORMATION CONTACT: Donald T. Hicks, Field Office Manager, Carson City Field Office, 5665 Morgan Mill Road, Carson City, Nevada 89701. Telephone (775) 885-6000.

SUPPLEMENTARY INFORMATION: The Sand Mountain blue butterfly is known to occupy habitat only at Sand Mountain, Churchill County, Nevada, where it is completely dependent on its host plant, Kearney buckwheat (Eriogonum nummulare). Approximately 1,000 ac (405 ha) of dune shrub habitat remained in 2003, an estimated reduction of about 50 percent over the past 25 years. Moreover, much of this remaining habitat has been highly fragmented by over 200 miles (320 km) of OHV routes. The public lands affected by this order are located east of Fallon, Nevada and North of U.S. Highway 50, in Churchill County, Nevada and include certain public lands within:

Mt. Diablo Meridian

T. 17 N., R. 32 E.

Sec. 13, SW¼;

Sec. 14, S½S½;

Sec. 16, SE¼SE¼;

Sec. 20, SE¼;

Sec. 21, All;

Sec. 22, N½, SW¼;

Sec. 23, N½, SW¼, W½SE¼;

Sec. 24, W½NW¼;

Sec. 29, All;

And lands within Secs. 28, 32, and 33 of the Sand Mountain Recreation Area.

These lands are depicted on maps located in the Carson City Field Office and at maps posted at the Sand Mountain Recreation Area fee station and entrance area. Copies of these maps may be obtained from the Carson City Field Office. This restriction order applies to all forms of motorized vehicle use excluding (1) any emergency, law enforcement or other BLM vehicle while being used for emergency or administrative purposes, and (2) any vehicle whose use is expressly authorized in writing by the Manager, Carson City Field Office.

Penalty: Any person who fails to comply with the restriction order may be subject to imprisonment for not more than 12 months or a fine in accordance with the applicable provisions of 18 U.S.C. 3571, or both.

Dated: December 12, 2006.
Donald T. Hicks,
Manager, Carson City Field Office.

[FR Doc. E7-4687 Filed 3-14-07; 8:45 am]

BILLING CODE 4310-HC-P